ENVIRONMENTAL PROTECTION AGENCY

[CERCLA-02-2020-2012; FRL 10014-52-Region 2]

Proposed CERCLA Cost Recovery Settlement for the Charlestown Mall Site, Utica and Frankfort, Oneida and Herkimer Counties, New York

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA with Charlestown Mall of Utica, LLC (the “Settling Party”) for the Charlestown Mall Site, consisting of two adjacent parcels, one in the City of Utica, Oneida County, New York, the other in the Town of Frankfort, Herkimer County, New York.

DATES: Comments must be submitted on or before October 22, 2020.

ADDRESSES: The proposed settlement is available for public inspection at EPA Region 2 offices at 290 Broadway, New York, New York 10007-1866. Comments should reference the Charlestown Mall Site, located in Utica and Frankfort, Oneida and Herkimer Counties, New York, Index No. CERCLA-02-2020-2012. To request a copy of the proposed settlement agreement, please contact the EPA employee identified below.

FOR FURTHER INFORMATION CONTACT: Henry Guzman, Attorney, Office of Regional Counsel, New York/Caribbean Superfund Branch, U.S. Environmental Protection Agency, 290 Broadway, 17th Floor, New York, NY 10007-1866. Email: guzman.henry@epa.gov, Telephone: 212-637-3166.

SUPPLEMENTARY INFORMATION: The Settling Party will pay $30,000 to the EPA Hazardous Substance Superfund in reimbursement of EPA's past response costs paid at or in connection with the Site, and it also agrees to market and sell those portions of the Site property owned by the Settling Party (“Site Property”) and pay to EPA the net proceeds from the sale of the Site Property.

The settlement includes a covenant by EPA not to sue or to take administrative action against the Settling Party pursuant to section 107(a) of CERCLA, 42 U.S.C. 9607(a), with regard to the response costs related to the work performed at the Site by EPA as enumerated in the settlement agreement. For thirty (30) days following the date of publication of this notice of the proposed settlement, EPA will receive written comments relating to the settlement. EPA will consider all comments received and may modify or withdraw its consent to the settlement if comments received disclose facts or considerations that indicate that the proposed settlement is inappropriate, improper, or inadequate. EPA's response to any comments received will be available for public inspection at EPA Region 2, 290 Broadway, New York, New York 10007-1866.

Dated: September 14, 2020.
Pasquale Evangelista,
Director, Superfund & Emergency Management Division, U.S. Environmental Protection Agency, Region 2.

[FR Doc. 2020-20812 Filed 9-21-20; 8:45 am]

BILLING CODE 6560-50-P